DEPARTMENT OF THE INTERIOR

Bureau of Land Management

[WY-100-05-1310-DB]

Notice of Meeting of the Pinedale Anticline Working Group's Reclamation Task Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) Reclamation Task Group (subcommittee) will meet in Pinedale, Wyoming, for a business meeting. Task Group meetings are open to the public.

DATES: The PAWG Reclamation Task Group will meet April 6, 2005, from 6 p.m. until 8 p.m.

ADDRESSES: The meetings of the PAWG Reclamation Task Group will be held in the Lovatt Room at the Sublette County Library. The Sublette County Library is located at 155 South Tyler Ave., in Pinedale.

FOR FURTHER INFORMATION CONTACT: Dessa Dale, BLM/Reclamation TG Liaison, Bureau of Land Management, Pinedale FO, 432 E. Mill Street, P.O. Box 768, Pinedale WY 82941; 307-367-5321.

SUPPLEMENTARY INFORMATION: The Pinedale Anticline Working Group (PAWG) was authorized and established with release of the Record of Decision (ROD) for the Pinedale Anticline Oil and Gas Exploration and Development Project on July 27, 2000. The PAWG advises the BLM on the development and implementation of monitoring plans and adaptive management decisions as development of the Pinedale Anticline Natural Gas Field (PAPA) proceeds for the life of the field. The agenda for this meeting will be discussion related to revision of the draft reclamation monitoring plan into a new format. The meeting will address concurrence on the revised plan, nomination of a new chairperson, and other items of concern within the Reclamation Task Group. Public comments will be accepted.

Dated: March 7, 2005.
Bill Wadsworth,
Acting Field Office Manager.

[FR Doc. 05-5103 Filed 3-14-05; 8:45 am]

BILLING CODE 4310-22-P